ENVIRONMENTAL PROTECTION AGENCY

[EPA-HQ-OEI-2014-0197; FRL 9916-58-OEI]

Creation of a New System of Records Notice: Case Records System

AGENCY: Environmental Protection Agency.

ACTION: Notice.

SUMMARY: The U.S. Environmental Protection Agency's (EPA) Office of Administrative Law Judges (OALJ) is giving notice that it proposes to create a new system of records pursuant to the provisions of the Privacy Act of 1974 (5 U.S.C. 552a). The EPA is implementing the Case Records System, which is a system of records, to manage its administrative adjudicatory proceedings. The Case Records System is a docketing, filing, case tracking, and document management system used to store and manage documents relevant to administrative adjudicatory proceedings before the OALJ. Litigants, administrative law judges (ALJs), and other interested parties may submit a variety of documents to the system, including pleadings, motions, briefs, exhibits, orders, hearing transcripts and initial decisions.

DATES: Effective Date: Persons wishing to comment on this system of records notice must do so by October 27, 2014.

ADDRESSES: Submit your comments, identified by Docket ID No. EPA-HQ-OEI-2014-0197, by one of the following methods:

• www.regulations.gov: Follow the online instructions for submitting comments.

• Email: oei.docket@epa.gov.

• Fax: 202-566-1752.

• Mail: OEI Docket, Environmental Protection Agency, Mailcode: 2822T, 1200 Pennsylvania Ave. NW., Washington, DC 20460.

• Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2014-0197. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1742.

FOR FURTHER INFORMATION CONTACT: Bruce Franklin, Administrative Manager, OALJ, can be reached at (202) 564-6214.

SUPPLEMENTARY INFORMATION:

General Information

The EPA proposes to create a new system of records under the Privacy Act to manage documents relevant to administrative adjudicatory proceedings before the OALJ. The OALJ is an independent office in the EPA's Office of Administration and Resources Management (OARM). The Administrative Law Judges (ALJs) conduct hearings and render decisions in proceedings between the EPA or other federal government agencies and persons, businesses, government entities, and other organizations which are regulated or alleged to be regulated under environmental laws. ALJs preside in enforcement and permit proceedings in accordance with the Administrative Procedure Act. Most enforcement actions before the ALJs are for the assessment of civil penalties and case documents are generally made available to the public.

The Case Records System is a docketing, filing, case tracking, and document management system used to store and manage documents relevant to administrative adjudicatory proceedings before the OALJ. The system is maintained by OALJ in Washington, DC and consists of file folders locked in file cabinets in the office and electronic documents stored in a password-protected computer database. The system is accessible to employees of the OALJ in connection with the performance of their authorized duties. When fully implemented, except for information protected from disclosure by law, the information in the system will be published on the internet. The general public will be provided “read-only” access via the internet.

Litigants and ALJs may submit a variety of documents to the system, including pleadings, motions, briefs, exhibits, orders, hearing transcripts and initial decisions. Some of the documents in the system may contain personally identifiable information (PII) of a sensitive nature (“sensitive PII” as defined in EPA's Privacy Policy, CIO-2151.0 (2007), e.g., social security numbers, or comparable identification number; financial information associated with individuals; and medical information associated with individuals). Because case documents are generally made available to the public, the OALJ encourages parties to carefully review documents and redact sensitive PII prior to submitting the documents to the OALJ. The OALJ will examine documents submitted for filing in its system that are likely to contain sensitive PII and redact that information prior to making the documents available to the public.

Dated: August 28, 2014.
Renee P. Wynn,
Acting Assistant Administrator and Acting Chief Information Officer.

EPA-66

System Name:

Case Records System.

System Location:

The paper records will be located at the EPA, Office of Administration and Resources Management (OARM), Office of Administrative Law Judges (OALJ), Ronald Reagan Building, Room M1200, 1300 Pennsylvania Ave. NW., Washington, DC 20004. The electronic records will be located on Agency servers housed in Research Triangle Park, North Carolina.

Categories of Individuals Covered by the System:

This system covers any persons, including public citizens, representatives of federal, state, or local governments and businesses who submit documents in contested administrative adjudicatory proceedings before the EPA OALJ.

Categories of Records in the System:

The sources of information in the system are limited to documents submitted by the parties to a matter (e.g., briefs, motions, exhibits) and by the ALJ presiding over the matter (e.g., orders, initial decisions). Parties may submit a wide range of document types to the OALJ containing various types of information including, but not limited to, names, addresses, social security numbers, medical and/or financial information contained in opinions of law, pleadings, motions, exhibits, and other documents submitted by the parties to a matter and the presiding ALJ. This includes information found in individual tax returns and other documents related to a party's ability to pay a monetary civil penalty.

Authority for Maintenance of the System:

42 U.S.C. 11001 et seq. (Emergency Planning & Community Right-to-Know Act (EPCRA)); 42 U.S.C. 6901 et seq. (Resource Conservation and Recovery Act (RCRA)); 15 U.S.C. 2601 et seq. (Toxic Substances Control Act (TSCA)); 7 U.S.C. 136 et seq. (Federal Insecticide, Fungicide and Rodenticide Act (FIFRA)); 42 U.S.C. 9601 et seq. (Comprehensive Environmental Response, Compensation, and Liability Act (CERCLA)); 33 U.S.C. 1251 (Federal Water Pollution Control Act (FWPCA), commonly known as the Clean Water Act (CWA)); 42 U.S.C. 7401 (Clean Air Act (CAA)); 40 CFR 22.4 (Consolidated Rules of Practice Governing the Administrative Assessment of Civil Penalties and the Revocation/Termination or Suspension of Permits).

Purpose(s):

The information contained in the system is primarily for the purpose of ALJs to render determinations with respect to matters before them and communicating the determinations to the appropriate individuals and organizations, as well as to the general public. When fully implemented, the electronic filing portion of the system will provide for online filing, tracking, and accounting of filings (e.g., pleadings, motions, briefs, exhibits, orders, and determinations) in all cases, both pending and archived. Other uses of the system and the information contained, therein, include:

• Responding to Freedom of Information Act requests;

• Providing the chief judge management information necessary to assess workload, assign incoming cases and monitor case progress;

• Allowing individual judges to monitor the progress of assigned cases;

• Providing ready access to case docketing information to support staff to enable timely response to complainants, government and private counsel, and respondents concerning the status of a particular case; and

• Promoting adjudicative transparency by providing public access to OALJ litigation documents.

Routine Uses of Records Maintained in the System, Including Categories of Users and the Purposes of Such Uses:

General Routine Uses A, E, F, G, H, K, and L apply to this system. Records may also be disclosed to the general public.

Policies and Practices for Storing, Retrieving, Accessing, Retaining, and Disposing of Records in the System:

• Storage: The records in the system are stored in paper files and computer databases.

• Retrievability: Paper files are retrieved by the names of the parties to a particular case or the docket number. All records stored in computer databases are full-text indexed and are searchable by any data element. Once fully implemented, the general public will be able to access most records over the Internet by any data element.

• Safeguards: Paper records are maintained in lockable file cabinets in secure, access-controlled rooms, areas, or buildings. Computer records are maintained in a secure, password protected computer database on servers located in secure, access-controlled rooms, areas or buildings at Agency facilities in Research Triangle Park, North Carolina. When fully implemented, the electronic filing portion of the system (known as the “OALJ E-Filing System”) will warn the user that information submitted via the OALJ E-Filing System is made public and that users should redact any sensitive PII from the document prior to submitting it. Users of the OALJ E-Filing System must affirm that they have read and understood the warning each time prior to submitting the document electronically. The OALJ published a Privacy Act Statement & Notice of Disclosure of Confidential and Personal Information on its Web site, which instructs users how to submit documents that contain un-redacted PII. Notwithstanding this public notice, the OALJ will examine documents submitted for sensitive personally identifiable information (PII) and, if found, redact the PII prior to making the document available to the public. The OALJ Case Tracking System portion of the Case Records System allows the employees of OALJ to exclude specific documents from being published to the Internet.

• Retention and Disposal: The records will be maintained under EPA Records Schedules 508, 509, and 510.

• System Manager(s) Address and Contact Information: Bruce Franklin, Administrative Manager, Office of Administrative Law Judges, Ronald Reagan Building, Room M1200, 1300 Pennsylvania Avenue NW., Washington, DC 20004.

Notification Procedure:

Any individual who wants to know whether this system of records contains a record about him or her, who wants access to his or her record, or who wants to contest the contents of a record, should make a written request to the EPA FOIA Office, Attn: Privacy Act Officer, MC 2822T, 1200 Pennsylvania Avenue NW., Washington, DC 20460.

Record Access Procedure:

Request for access must be made in accordance with the procedures described in the EPA's Privacy Act regulations at 40 CFR part 16. Requesters will be required to provide adequate identification, such as a driver's license, employee identification card, or other identifying document. Additional identification procedures may be required in some instances.

Contesting Records Procedures:

Requests for correction or amendment must identify the record to be changed and the corrective action sought. Complete EPA Privacy Act procedures are described in EPA's Privacy Act regulations at 40 CFR part 16.

Record Source Categories:

Sources include parties to administrative adjudicatory proceedings before the OALJ and the employees within the OALJ. A party may be any persons, including public citizens and representatives of federal, state, or local governments, and businesses who submit documents in contested administrative adjudicatory proceedings before the EPA OALJ.

System Exempted From Certain Provisions of the Act:

Nothing in this notice shall allow an individual access to any information compiled in reasonable anticipation of a civil action or proceeding. 5 U.S.C. 552a(d)(5).

[FR Doc. 2014-22164 Filed 9-16-14; 8:45 am]

BILLING CODE P